GENERAL SERVICES ADMINISTRATION

[Notice-PM-2016-01; Docket No. 2016-0002; Sequence No. 3]

Record of Decision for the Federal Bureau of Investigation Central Records Complex in Winchester County, Virginia

AGENCY: General Services Administration (GSA).

ACTION: Notice of availability, Record of Decision (ROD).

SUMMARY: On March 22, 2016, GSA signed the ROD for the Federal Bureau of Investigation Central Records Complex in Winchester County, Virginia. The ROD states the decision to select the Arcadia Property as the location for the Central Records Complex. GSA will now move forward with the project by acquiring the Arcadia Property via site acquisition. Environmental consequences of implementing the action at the Arcadia Property are discussed in the ROD, along with the required minimization and mitigation measures.

DATES: Effective: March 31, 2016.

ADDRESSES: The ROD may be viewed online at http://www.fbicrc-seis.com. A printed copy is available for viewing at the following libraries:

• Handley Library, 100 West Piccadilly Street, P.O. Box 58, Winchester, VA 22604.

• Bowman Library, 871 Tasker Road, P.O. Box 1300, Stephens City, VA 22655.

• Smith Library, Shenandoah University, 718 Wade Miller Drive, Winchester, VA 22601.

FOR FURTHER INFORMATION CONTACT: Ms. Courtenay Hoernemann, Project Environmental Planner, 100 S. Independence Mall West, Philadelphia PA 19106; or email frederick.va.siteacquisition@gsa.gov.

SUPPLEMENTARY INFORMATION: The purpose of the facility is to allow the FBI improved records management, including decreased response time of records retrieval, and improved security of the records stored by the FBI. The ROD announces GSA's decision on selecting the Arcadia Property based on information and analysis contained in the Final Supplemental Environmental Impact Statement (SEIS), the Draft SEIS, the Final EIS, technical studies, comments from the public and agencies, and the site selection criteria. The Final SEIS was made public on January 15, 2016 through an NOA in the Federal Register (Volume 81, Number 10, Page 2218) with a post filing waiting period ending on February 14, 2016.

Dated: March 24, 2016.
John Hofmann,
Division Director, Facilities Management & Services Programs Division, General Services Administration, Mid-Atlantic Region.

[FR Doc. 2016-07161 Filed 3-30-16; 8:45 am]

BILLING CODE 6820-89-P